DEPARTMENT OF HOMELAND SECURITY

Coast Guard

33 CFR Part 165

[Docket No. USCG-2008-0559]

RIN 1625-AA08

Bellingham Bay, Bellingham, WA

AGENCY: Coast Guard, DHS.

ACTION: Notice of enforcement of regulation.

SUMMARY: The Coast Guard will enforce the Bellingham Bay, Bellingham, WA Safety Zone in Bellingham Bay from 9:30 p.m. to 11 p.m. on July 4th, 2008. This action is necessary to ensure the safety of participants and spectators during the Bellingham Bay, Bellingham, WA (Haggens 4th of July Blast). During the enforcement period, entry into the Safety Zone is prohibited unless authorized by the Captain of the Port, Puget Sound, Seattle, WA.

DATES: The regulations in 33 CFR 165.1304 will be enforced from 9:30 p.m. to 11 p.m. on July 4th, 2008.

FOR FURTHER INFORMATION CONTACT: Ensign Heidi Bevis, c/o Captain of the Port Puget Sound, Coast Guard Sector Seattle, 1519 Alaskan Way South, Seattle, WA 98134 at (206) 217-6002.

SUPPLEMENTARY INFORMATION: The Coast Guard will enforce the safety zone for the Bellingham Bay, Bellingham, WA Fireworks Show, 33 CFR 165.1304 on July 4th, 2008 from 9:30 p.m. to 11 p.m.

This safety zone provides for a regulated area to protect spectators. Movements are regulated for all vessels in the area as described under 33 CFR 165.1306 or unless otherwise regulated by the COTP or his designee. The Coast Guard may be assisted by other Federal, State, or local law enforcement agencies in enforcing this safety zone.

Under the provisions of 33 CFR 165.1304, all waters of Bellingham Bay, Washington, bounded by a circle with a radius of 1,000 yards centered on the fireworks launching site located on the Georgia Pacific Lagoon Seawall at position latitude 48°44′56″ N, longitude 122°29′40″ W, including the entrances to the I & J Street Waterway and the Whatcom Creek Waterway.

The Coast Guard may be assisted by other Federal, State, or local law enforcement agencies in enforcing this regulation.

This notice is issued under authority of 33 CFR 165.1304(c) and 5 U.S.C. 552(a).

Dated: June 18, 2008.
Stephen P. Metruck,
Captain, U.S. Coast Guard, Captain of the Port Puget Sound.

[FR Doc. E8-15029 Filed 7-1-08; 8:45 am]

BILLING CODE 9110-04-P